FEDERAL COMMUNICATIONS COMMISSION

47 CFR Parts 1, 2, 27, 90 and 95

[WT Docket No. 02-08; FCC 02-15]

Reallocation of the 216-220 MHz, 1390-1395 MHz, 1427-1429 MHz, 1429-1432 MHz, 1432-1435 MHz, 1670-1675 MHz, and 2385-2390 MHz Government Transfer Bands

AGENCY: Federal Communications Commission.

ACTION: Proposed rule.

SUMMARY: In this document, the Commission proposes to establish new service rules for licensing a total of 27 megahertz of spectrum transferred from Government to non-Government use. The Commission seeks comment on the flexibility that should be afforded new or incumbent licensees, and the technical and other service rules that should govern the range of existing and proposed services. The comments will aid the Commission on how best to utilize these bands to provide valuable services to the public. Additionally, the Commission seeks comments on a petition for rulemaking filed on March 6, 2000, by Data Flow Systems, Inc., requesting amendment of the Commission's rules. The Commission also seeks comments on a proposal filed by Securicor Wireless Holdings, Inc.

DATES: Written comments on the proposed rule are due on or before March 4, 2002, and reply comments are due on or before March 18, 2002.

ADDRESSES: Parties who choose to file comments by paper must file an original and four copies to William F. Caton, Acting Secretary, Office of the Secretary, Federal Communications Commission, 445 12th St., SW., Room TW-A325, Washington, DC 20554. Comments may also be filed using the Commission's Electronic Filing System, which can be accessed via the Internet at www.fcc.gov/e-file/ecfs.html.

FOR FURTHER INFORMATION CONTACT: Zenji Nakazawa, Wireless Telecommunications Bureau, at (202) 418-0680, via e-mail at znakazaw@fcc.gov, via TTY (202) 418-7233 or Nese Guendelsberger, Wireless Telecommunications Bureau, Auctions and Industry Analysis Division, at (202) 418-0660.

SUPPLEMENTARY INFORMATION: This is a summary of the Federal Communications Commission's Notice of Proposed Rule Making, FCC 02-15, adopted on January 22, 2002, and released on February 06, 2002. The full text of this Notice of Proposed Rule Making is available for inspection and copying during normal business hours in the FCC Reference Center, Room CY-A257, 445 12th Street, SW., Washington, DC 20554. The complete text with the summarized band plan chart may be purchased from the Commission's copy contractor, Qualex International, 445 12th Street, SW., Room CY-B402, Washington, DC 20554. The full text may also be downloaded at: www.fcc.gov. Alternative formats are available to persons with disabilities by contacting Brian Millin at (202) 418-7426 or TTY (202) 418-7365.

1. In this Notice of Proposed Rulemaking (NPRM), we propose new service rules for licensing a total of 27 megahertz of spectrum from the 216-220 MHz, 1390-1395 MHz, 1427-1429 MHz, 1429-1432 MHz, 1432-1435 MHz, 1670-1675 MHz, and 2385-2390 MHz bands. This spectrum was transferred from Government to non-Government use pursuant to the provisions of the Omnibus Budget Reconciliation Act of 1993 (OBRA-93) and the Balanced Budget Act of 1997 (BBA-97).

2. The service rules proposed in the NPRM include provisions for licensing, technical (and operating) rules, competitive bidding, and interference standards. We note that portions of this spectrum are currently available and utilized by existing non-Government licensees. We solicit public comment on the flexibility that should be afforded new or incumbent licensees, and the technical and other service rules that should govern the range of existing and proposed services. We also anticipate authorizing new primary services in the paired 1392-1395 MHz and 1432-1435 MHz bands and the unpaired 1390-1392 MHz, 1670-1675 MHz, and 2385-2390 MHz bands.

3. We generally seek comment on the following issues under consideration for all of these bands:

• Whether to authorize new services under part 27 or part 101 of our rules;

• Whether to license new services by geographic service areas;

• Whether to license band managers in any of these bands;

• Whether to provide for partitioning and disaggregation of licensed spectrum; and

• Whether to adopt technical rules in order to prevent in-band and out-of-band interference.

4. We also address several issues relating to existing services currently operating in these bands. We seek comment on the following issues:

• Whether secondary telemetry in the 217-220 MHz and 1427-1429.5 MHz bands should be licensed on a site-by-site basis;

• Whether primary telemetry in the 1429.5-1432 MHz band should be licensed on a site-by-site basis;

• Whether to add technical specifications to Part 90 of our Rules for telemetry operations;

• Whether to apply the frequency coordination procedures of Section 90.175 to authorization of future secondary telemetry operations.

5. Additionally, we propose service rules to augment the framework established in the Reallocation Report and Order, 67 FR 6172, February 11, 2002, ET Docket 00-221, FCC 01-382, that requires non-Federal Government users to coordinate with co-primary Federal Government incumbents. In this regard, we seek comment on the following issues:

• Blanket coordination for LPRS;

• Coordination of site-by-site and geographic area licensees with Federal Government incumbents;

• Coordination procedures for licensees operating in the 1670-1675 MHz band near the METSAT station located at Greenbelt, MD.

6. With respect to non-Government incumbents who will remain in these bands, we seek comment on the following issues:

• Coordination procedures for licensees in the 2385-2390 MHz band operating near non-Government aeronautical flight test telemetry sites;

• Interim coordination procedures for terrestrial licensees along the Canadian and Mexican borders.

7. In accordance with section 309(j) of the Communications Act, if we adopt a licensing scheme under which mutually exclusive applications are accepted for filing, we must resolve such mutually exclusive applications by competitive bidding. We propose to conduct the auction of such licenses in conformity with the general competitive bidding rules set forth in part 1, subpart Q, of the Commission's rules. We also propose the use of bidding credits for small entities that participate in auctions of licenses in the paired 1392-1395 MHz and 1432-1435 MHz bands and the unpaired 1390-1392 MHz, 1670-1675 MHz, and 2385-2390 MHz bands as well as the unpaired 1429.5-1432 MHz portion and seven geographic carved out areas for primary telemetry in the 1427-1429.5 MHz portion of the 1.4 GHz band.

8. Additionally, we seek comment on a petition for rulemaking filed on March 6, 2000, by Data Flow Systems, Inc., requesting that the Commission amend §§ 90.35 and 90.259 of the Commission's Rules to allow the use of fixed telemetry in the 216-220 MHz band. We also seek comment on a proposal filed by Securicor Wireless Holdings, Inc. (Securicor) in response to the Reallocation Notice, 66 FR 7443, January 23, 2001. Securicor seeks to license “white-space” in the 216-220 MHz band similar to the paradigm established for land mobile use of the 220-222 MHz band. Lastly, we request comment on a proposal submitted by Warren Havens (Havens) that seeks the creation of a new “Advanced Technologies 220 MHz” Service in the 216-225 MHz band.

9. In a companion proceeding in ET Docket 00-221, the Commission recently reallocated the spectrum that is the subject of this NPRM. In response to that rulemaking, various parties recommended proposals on how best to utilize these bands to provide valuable services to the public. Because we now consider service rules regarding this spectrum, we hereby incorporate by reference the record previously developed in that proceeding leading to the Reallocation Report and Order.

I. Procedural Matters

10. Ex Parte Rules. For purposes of this permit-but-disclose notice and comment rulemaking proceeding, members of the public are advised that ex parte presentations are permitted, except during the Sunshine Agenda period, provided they are disclosed under the Commission's rules.

11. Pleading Dates. Pursuant to applicable procedures set forth in §§ 1.415 and 1.419 of the Commission's rules, interested parties may file comments on or before March 4, 2002, and reply comments on or before March 18, 2002. Comments and reply comments should be filed in WT Docket No. 02-08. All relevant and timely comments will be considered by the Commission before final action is taken in this proceeding. To file formally in this proceeding, interested parties must file an original and four copies of all comments, reply comments, and supporting comments. If interested parties want each Commissioner to receive a personal copy of their comments, they must file an original plus nine copies. Interested parties should send comments and reply comments to the Office of the Secretary, Federal Communications Commission, Room TW-A325, 445 Twelfth Street, SW., Washington, DC 20554, with a copy to Dana Davis, Wireless Telecommunications Bureau, Room 4-C216, 445 Twelfth Street, SW., Washington, DC 20554.

12. Comments may also be filed using the Commission's Electronic Comment Filing System (ECFS). Comments filed through the ECFS can be sent as an electronic file via the Internet to <http://www.fcc.gov/e-file/ecfs.html>. Generally, only one copy of an electronic submission must be filed. In completing the transmittal screen, commenters should include their full name, Postal Service mailing address, and the applicable docket or rulemaking number. Parties may also submit an electronic comment by Internet e-mail. To obtain filing instructions for e-mail comments, commenters should send an e-mail to ecfs@fcc.gov, and should include the following words in the body of the message, “get form <your e-mail address>.” A sample form and directions will be sent in reply.

13. Comments and reply comments will be available for public inspection during regular business hours at the FCC Reference Information Center, Room CY-A257, at the Federal Communications Commission, 445 Twelfth Street, SW., Washington, DC 20554. Copies of comments and reply comments are available through the Commission's duplicating contractor: Qualex International, Portals II, 445 12th Street, SW., Room CY-B402, Washington, DC, 20554, telephone 202-863-2893, facsimile 202-863-2898, or via e-mail qualexint@aol.com.

II. Initial Regulatory Flexibility Analysis for Notice of Proposed Rule Making

14. As required by the Regulatory Flexibility Act (RFA), the Commission has prepared this present Initial Regulatory Flexibility Analysis (IRFA) of the possible significant economic impact on small entities by the policies and rules proposed in the (NPRM), WT Docket No. 02-08. Written public comments are requested on this IRFA. Comments must be identified as responses to the IRFA and must be filed by the deadlines for comments on the NPRM as provided previously. The Commission will send a copy of the NPRM, including the IRFA, to the Chief Counsel for Advocacy of the Small Business Administration. In addition, the NPRM and IRFA (or summaries thereof) will be published in the Federal Register.

A. Legal Basis for Proposed Rules

15. The proposed action is authorized under sections 1, 4(i), 302, 303(f) and (r), and 332 of the Communications Act of 1934, as amended, 47 U.S.C. 1, 154(i), 302, 303(f) and (r), and 332.

B. Description and Estimate of the Number of Small Entities To Which the Proposed Rules Will Apply

16. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which: (i) Is independently owned and operated; (ii) is not dominant in its field of operation; and (iii) satisfies any additional criteria established by the Small Business Administration (SBA). A small organization is generally “any not-for-profit enterprise which is independently owned and operated and is not dominant in its field.” Nationwide, as of 1992, there were approximately 275,801 small organizations. “Small governmental jurisdiction” generally means “governments of cities, counties, towns, townships, villages, school districts, or special districts, with a population of less than 50,000.” As of 1992, there were approximately 85,006 governmental entities in the United States. This number includes 38,978 counties, cities, and towns; of these, 37,566, or 96%, have populations of fewer than 50,000. The Census Bureau estimates that this ratio is approximately accurate for all governmental entities. Thus, of the 85,006 governmental entities, we estimate that 81,600 (96%) are small entities.

17. With respect to the 1390-1395 MHz, 1432-1435 MHz, 1670-1675 MHz, and 2385-2390 MHz bands, the Commission has not yet determined how many licenses will be awarded and does not know how many licensees will partition their license areas or disaggregate their spectrum blocks, if partitioning and disaggregation are allowed. Moreover, the Commission does not yet know how many applicants or licensees in these bands will be small entities. We therefore assume that, for purposes of our evaluations and conclusions in the IRFA, all prospective licensees are small entities, as that term is defined by the SBA or by our proposed small business definitions for these bands. We invite comment on this analysis.

18. Existing services in other bands include entities that might be affected by the proposed rules, either as existing licensees or potential applicants or licensees. Incumbent services in the 216-220 MHz band include the Automated Maritime Telecommunications Service (AMTS), the “218-219 MHz” Service, the Low Power Radio Service (LPRS) and telemetry. Incumbent services in the 1427-1429.5 MHz and 1429.5-1432 MHz bands include wireless medical telemetry (WMTS) and general telemetry.

19. AMTS. For future auctions in the AMTS, the Commission has proposed to define small businesses as those entities, together with their affiliates and controlling interests, with not more than $15 million in average gross revenues for the preceding three years, and very small businesses as those entities, together with their affiliates and controlling interests, with not more than $3 million in average gross revenues for the preceding three years. Currently, there are only three AMTS licensees, none of whom are small businesses. However, potential licensees in AMTS include all public coast stations, which are classified by the Small Business Administration as Radiotelephone Service Providers, Standard Industrial Classification Code 4812. The Commission does not yet know how many applicants or licensees in these bands will be small entities. We therefore assume that, for purposes of our evaluations and conclusions in the IRFA, all prospective licensees are small entities, as that term is defined by the SBA or by our proposed small business definitions for these bands.

20. “218-219 MHz” Service. For the first auction of the “218-219 MHz” Service the Commission defined a small business as an entity, together with its affiliates, that has no more than a $6 million net worth and, after federal income taxes (excluding any carry over losses), has no more than $2 million in annual profits each year for the previous two years. For that auction, 170 entities won licenses for 594 Metropolitan Statistical Area (MSA) licenses. Of the 594 licenses, 557 were won by entities qualifying as a small business. Subsequently, the Commission changed the service rules and defined small businesses as those entities, together with their affiliates and controlling interests, with not more than $15 million in average gross revenues for the preceding three years, and very small businesses as those entities, together with their affiliates and controlling interests, with not more than $3 million in average gross revenues for the preceding three years. We cannot estimate, however, the number of licenses that will be won by entities qualifying as small businesses under our rules in future auctions of 218-219 MHz spectrum licenses. Given the success of small businesses in the first auction, we assume for purposes of this IRFA that in future auctions all of the licenses in the “218-219 MHz” Service may be awarded to small businesses.

21. Low Power Radio Service. The Low Power Radio Service permits licensees to use the 216-217 MHz segment for auditory assistance, medical devices, and law enforcement tracking devices. Users are likely to be theaters, auditoriums, churches, schools, banks, hospitals, and medical care facilities. The primary manufacturer of auditory assistance estimates that it has sold 25,000 pieces of auditory assistance equipment. Many if not most LPRS users are likely to be small businesses or individuals. However, because the LPRS is licensed by rule, with no requirement for individual license applications or documents, the Commission is unable to estimate how many small businesses make use of LPRS equipment.

22. Telemetry. Incumbent telemetry operators in the 216-220 MHz band include entities such as Fairfield Industries, Inc. which perform geophysical exploration for underground oil and natural gas reserves. Incumbent non-medical telemetry operators in the 1427-1429.5 MHz and 1429.5-1432 MHz bands include Itron, Inc., Pueblo Service Company of Colorado and E Prime, Inc., and large manufacturers such as Deere and Company, Caterpillar, and General Dynamics. None of these licensees are likely to be small businesses. Itron, Inc. is the primary user of the 1427-1429.5 MHz and 1429.5-1432 MHz bands. Itron, Inc., with an investment of $100 million in equipment development, is not likely to be a small business. One licensee, Zytex, a manufacturer of high-speed telemetry systems, may be a small business. The Commission does not yet know how many applicants or licensees in these bands will be small entities. We therefore assume that, for purposes of our evaluations and conclusions in the IRFA, all prospective licensees are small entities.

23. WMTS. Users of medical telemetry are hospitals and medical care facilities, some of which are likely to be small businesses. According to the SBA's regulations, hospitals and nursing homes must have annual gross receipts of $5 million or less in order to qualify as a small business concern. There are approximately 11,471 nursing care firms in the nation, of which 7,953 have annual gross receipts of $5 million or less. There are approximately 3,856 hospital firms in the nation, of which 294 have gross receipts of $5 million or less. Thus, the approximate number of small confined setting entities to which the Commission's new rules will apply is 8,247.

C. Description of Projected Reporting, Recordkeeping, and Other Compliance Requirements

24. Applicants for licenses to provide terrestrial fixed and mobile services in the paired 1392-1395 MHz and 1432-1435 MHz bands, the unpaired 1390-1392 MHz band, the unpaired 1670-1675 MHz band, and the unpaired 2385-2390 MHz band will be required to submit short-form auction applications using FCC Form 175. In addition, winning bidders must submit long-form license applications through the Universal Licensing System using FCC Form 601, and other appropriate forms. Licensees will also be required to apply for an individual station license by filing FCC Form 601 for those individual stations that (i) require submission of an Environmental Assessment under Section 1.1307 of our Rules; (ii) require international coordination; (iii) would operate in the quiet zones listed in Section 1.924 of our Rules; or (iv) require coordination with the Frequency Assignment Subcommittee (FAS) of the Interdepartment Radio Advisory Committee (IRAC). We invite comment on how these filing requirements can be modified to reduce the burden on small entities.

D. Steps Taken To Minimize Significant Economic Impact on Small Entities, and Significant Alternatives Considered

25. The RFA requires an agency to describe any significant alternatives that it has considered in reaching its proposed approach, which may include the following four alternatives (among others): (i) The establishment of differing compliance or reporting requirements or timetables that take into account the resources available to small entities; (ii) the clarification, consolidation, or simplification of compliance or reporting requirements under the rule for small entities; (iii) the use of performance, rather than design standards; and (iv) an exemption from coverage of the rule, or any part thereof, for small entities.

26. We have reduced burdens wherever possible. To minimize any negative impact, however, we propose certain incentives for small entities that will redound to their benefit. These special provisions include partitioning and spectrum disaggregation. These provisions will allow smaller entities to overcome entry barriers. In addition, we seek comment on whether it would be appropriate to license the paired 1392-1395 MHz and 1432-1435 MHz bands and the unpaired 1390-1392 MHz, 1670-1675 MHz and 2385-2390 MHz bands for fixed and mobile services using smaller geographical licensing areas. The use of smaller licensing areas could benefit small entities by reducing costs and build-out expenses.

27. We also propose the use of bidding credits for small entities that participate in auctions of licenses that are conducted pursuant to the rules proposed in this Notice. Thus, for the paired 1392-1395 MHz and 1432-1435 MHz bands and the unpaired 1390-1392 MHz, 1670-1675 MHz, and 2385-2390 MHz bands, we propose to define an “entrepreneur” as an entity with average annual gross revenues not exceeding $40 million for the three preceding years and we propose to define a “small business” as an entity with average annual gross revenues not exceeding $15 million for the three preceding years. With respect to the 1427-1432 MHz band, in which we believe that the capital costs of providing primary telemetry service will in general be lower than the capital costs for the bands discussed above, we propose to define a “small business” as an entity with average annual gross revenues not exceeding $15 million for the three preceding years and a “very small business” as an entity with average annual gross revenues not exceeding $3 million for the three preceding years. We further propose to provide entrepreneurs with a bidding credit of 15 percent, small businesses with a bidding credit of 25 percent, and very small businesses with a bidding credit of 35 percent. We believe that these bidding credits will help small entities compete in our auctions and acquire licenses. We seek comment on our proposed small business definitions and bidding credits, including information on factors that may affect the capital requirements of the type of services a licensee may seek to provide.

28. The regulatory burdens we have retained, such as filing applications on appropriate forms, are necessary in order to ensure that the public receives the benefits of innovative new services in a prompt and efficient manner. We will continue to examine alternatives in the future with the objectives of eliminating unnecessary regulations and minimizing any significant economic impact on small entities. We seek comment on significant alternatives commenters believe we should adopt.

E. Report to Small Business Administration

29. The Commission will send a copy of this Notice of Proposed Rulemaking, including a copy of the IRFA to the Chief Counsel for Advocacy of the Small Business Administration.

F. Federal Rules That May Duplicate, Overlap, or Conflict With the Proposed Rules

30. None.

III. Ordering Clauses

31. Pursuant to sections 1, 4(i), 302, 303(f) and (r), and 332 of the Communications Act of 1934, as amended, 47 U.S.C. 1, 154(i), 302, 303(f) and (r), and 332, Notice is hereby given of the proposed regulatory changes described in this Notice of proposed rulemaking, and that comment is sought on these proposals.

32. Pending applications to use the frequencies listed in § 90.259 of the Commission's Rules, 47 CFR 90.259, Will be processed provided that (i) they are not mutually exclusive with other applications as of February 6, 2002, nor with respect to the frequencies listed in Section 90.259, part of a proposed system that does not meet the requirements of our rules, without reference to any applications that are mutually exclusive with other applications as of February 6, 2002, and (ii) the relevant period for filing competing applications has expired as of that date. Pending applications to use those frequencies not meeting the above criteria Will be held in abeyance until the conclusion of this proceeding. We will determine later, in accordance with such new rules as are adopted, whether to process or return any such pending applications.

33. The Commission's Consumer Information Bureau, Reference Information Center, Shall send a copy of this Notice of proposed rulemaking including the Initial Regulatory Flexibility Analysis, to the Chief Counsel for Advocacy of the Small Business Administration.

List of Subjects

47 CFR Part 1

Administrative, practice and procedure, Radio.

47 CFR Part 2

Communications equipment, Radio.

47 CFR Part 27

Communications common carriers, Radio.

47 CFR Part 90

Communications equipment, Radio, Reporting, recordkeeping requirements.

47 CFR Part 95

Communications equipment, Radio, Reporting, recordkeeping requirements.

Federal Communications Commission.
William F. Caton,
Acting Secretary.

Rule Changes

For the reasons discussed in the preamble the Federal Communications Commission proposes to amend 47 CFR parts 1, 2, 27, 90 and 95 as follows:

PART 1—PRACTICE AND PROCEDURE

1. The authority citation for Part 1 continues to read as follows:

Authority: 47 U.S.C. 151, 154(i), 154(j), 155, 225, 303(r), 309 and 325(e), unless otherwise noted.

2. Section 1.924(g)(1), (g)(2) and (g)(3) is revised to read as follows:

§ 1.924 Quiet zones.

* * * * *

(g) * * *

(1) Applicants and licensees planning to construct and operate a new or modified station within the area bounded by a circle with a radius of 100 kilometers (62.1 miles) that is centered on 37°56′47″ N, 75°27′37″ W (Wallops Island) or 64°58′36″ N, 147°31′03″ W (Fairbanks) or within the area bounded by a circle with a radius of 65 kilometers (40.4 miles) that is centered on 39°00′02″ N, 76°50′31″ W (Greenbelt) must notify the National Oceanic and Atmospheric Administration (NOAA) of the proposed operation. For this purpose, NOAA maintains the GOES coordination web page at http://www.osd.noaa.gov/radio/frequency.htm, which provides the technical parameters of the earth stations and the point-of-contact for the notification. The notification shall include the following information: Requested frequency, geographical coordinates of the antenna location, antenna height above mean sea level, antenna directivity, emission type, equivalent isotropically radiated power, antenna make and model, and transmitter make and model.

(2) When an application for authority to operate a station is filed with the FCC, the notification required in paragraph (g)(1) of this section should be sent at the same time. The application must state the date that notification in accordance with paragraph (g)(1) of this section was made. After receipt of such an application, the FCC will allow a period of 20 days for comments or objections in response to the notification.

(3) If an objection is received during the 20-day period from NOAA, the FCC will, after consideration of the record, take whatever action is deemed appropriate.

PART 2—FREQUENCY ALLOCATIONS AND RADIO TREATY MATTERS; GENERAL RULES AND REGULATIONS

3. The authority citation for part 2 continues to read as follows:

Authority: 47 U.S.C. 154, 302a, 303, and 336 unless otherwise noted.

4. Section 2.106 is amended by revising footnotes US350 and US362 to read as follows:

§ 2.106 Table of Frequency Allocations.

* * * * *

United States (US) Footnotes

* * * * *

US350 In the bands 608-614 MHz and 1395-1400 MHz the Government and non-Government land mobile service is limited to medical telemetry and medical telecommand operations. Availability and use of medical telemetry and telecommand and non-medical telemetry and telecommand in the bands 1427-1429.5 MHz and 1429.5-1432 MHz are described in the following table:

Location (see §§ 90.259 and 95.630 of this chapter for a detailed description) | 1427-1429.5 MHz | 1429.5-1432 MHz
Austin/Georgetown, Texas; Battle Creek, Michigan; Detroit, Michigan; Pittsburgh, Pennsylvania; Richmond/Norfolk, Virginia; Spokane, Washington; Washington, DC, metropolitan area | Non-Governement land mobile service is limited to telemetry and telecommand operations Government and non-Government land mobile service is limited to medical telemetry and telecommand operations on a secondary basis | Government and non-Government land mobile service is limited to medical telemetry and telecommand operations. Non-Government telemetry and telecommand use is permitted on a secondary basis.
Rest of U.S. | Government and non-Government land mobile service is limited to medical telemetry and telecommand operations | Non-Government land mobile service is limited to telemetry and telecommand operations.
| Non-Government telemetry and telecommand use is permitted on a secondary basis.

* * * * *

US362 The band 1670-1675 MHz is allocated to the meteorological-satellite service (space-to-Earth) on a primary basis for Government use. Earth station use of this allocation is limited to Wallops Island, VA (37°56′47″ N, 75°27′37″ W), Fairbanks, AK (64°58′36″ N, 147°31′03″ W), and Greenbelt, MD (39°00′02″ N, 76°50′31″ W). Applicants for non-Government stations within 100 kilometers of the Wallops Island or Fairbanks coordinates and within 65 kilometers of the Greenbelt coordinates shall notify NOAA in accordance with the procedures specified in 47 CFR 1.924.

* * * * *

PART 27—MISCELLANEOUS WIRELESS COMMUNICATIONS SERVICES

5. The authority citation for part 27 continues to read as follows:

Authority: 47 U.S.C. 154, 301, 302, 303, 307, 309, 332, 336, and 337 unless otherwise noted.

6. Section 27.4 is amended by adding the following definition in alphabetical order to read as follows:

§ 27.4 Terms and definitions.

* * * * *

Band Manager. The term Band Manager refers to a licensee in the 1390-1392 MHz, 1392-1395 MHz, 1432-1435 MHz, 1670-1675 MHz and 2385-2390 MHz bands that functions solely as a spectrum broker by subdividing its licensed spectrum and making it available to system operators or directly to end users for fixed or mobile communications consistent with Commission Rules. A Band Manager is directly responsible for any interference or misuse of its licensed frequency arising from its use by such non-licensed entities.

* * * * *

7. Add Subpart I to part 27 to read as follows:

Subpart I—1.4 GHz Service

Sec.
27.801 Scope.
27.802 Permissible communications.
27.803 Coordination requirements.
27.804 Geographic partitioning and spectrum disaggregation.
27.805 1.4 THz Service licenses subject to competitive bidding.
27.806 Designated entities.

§ 27.801 Scope.

This subpart sets out the regulations governing service in the paired 1392-1395 MHz and 1430-1432 MHz bands as well as the unpaired 1390-1392 MHz band (1.4 GHz Service).

§ 27.802 Permissible communications.

Licensees in the paired 1392-1395 MHz and 1430-1432 MHz bands and unpaired 1390-1392 MHz band are authorized to provide fixed or mobile service, except aeronautical service, subject to the technical requirements of this subpart.

§ 27.803 Coordination requirements.

(a) Licensees in the 1.4 GHz Service will be issued geographic area licenses.

(b) Licensees in the 1.4 GHz Service must file a separate station application with the Commission and obtain an individual station license, prior to construction or operation, of any station:

(1) That requires submission of an Environmental Assessment under Part 1, § 1.1307 of this chapter;

(2) That requires international coordination;

(3) That operates in the quiet zones listed in Part 1, § 1.924 of this chapter; or

(4) That requires approval of the Frequency Advisory Subcommittee (FAS) of the Interdepartment Radio Advisory Committee (IRAC). Stations that require FAS approval are as follows:

(i) Licensees in the 1390-1392 MHz and 1392-1395 MHz band must receive FAS approval prior to operation of fixed sites or mobile units within the NTIA recommended protection radii of the Government sites listed in footnote US351 of § 2.106.

(ii) Licensees in the 1432-1435 MHz band must receive FAS approval, prior to operation of fixed sites or mobile units within the NTIA recommended protection radii of the Government sites listed in footnote US361 of § 2.106 of this chapter.

(c) Prior to construction of a station, a 1.4 GHz licensee must register with the Commission any station antenna structure for which notification to the Federal Aviation Administration is required by part 17 of this chapter.

(d) It is the licensee's responsibility to determine whether an individual station needs referral to the Commission.

(e) The notification required in paragraph (b) of this section must be filed on the Universal Licensing System.

§ 27.804 Geographic partitioning and spectrum disaggregation.

An entity that acquires a portion of a 1.4 GHz licensee's geographic area or spectrum subject to a geographic partitioning or spectrum disaggregation agreement under § 27.15 must function as a 1.4 GHz licensee and is subject to the obligations and restrictions on the 1.4 GHz license as set forth in this subpart.

§ 27.805 1.4 GHz Service licenses subject to competitive bidding.

Mutually exclusive initial applications for 1.4 GHz Service licenses in the paired 1392-1395 MHz and 1430-1432 MHz bands as well as the unpaired 1390-1392 MHz and 1429.5-1432 MHz bands are subject to competitive bidding. The general competitive bidding procedures set forth in part 1, subpart Q, of this chapter will apply unless otherwise provided in this part.

§ 27.806 Designated entities.

(a) Eligibility for small business provisions for 1.4 GHz Service licenses in the paired 1392-1395 MHz and 1430-1432 MHz bands and the unpaired 1390-1392 MHz band.

(1) A small business is an entity that, together with its controlling interests and affiliates, has average annual gross revenues not exceeding $15 million for the preceding three years.

(2) An entrepreneur is an entity that, together with its controlling interests and affiliates, has average annual gross revenues not exceeding $40 million for the preceding three years.

(3) A consortium of small businesses is a conglomerate organization formed as a joint venture between or among mutually independent business firms, each of which individually satisfies the definition in paragraph (a)(1) of this section. A consortium of entrepreneurs is a conglomerate organization formed as a joint venture between or among mutually independent business firms, each of which individually satisfies the definition in paragraph (a)(2) of this section.

(4) For purposes of determining whether an entity meets any of the definitions set forth in paragraphs (a)(1), (a)(2), or (a)(3) of this section, the gross revenues of the entity, its controlling interests and affiliates shall be considered in the manner set forth in § 1.2110(b) and (c) of this chapter.

(b) A winning bidder that qualifies as a very small business or a consortium of very small businesses as defined in this section may use the bidding credit specified in § 1.2110(f)(2)(i) of this chapter. A winning bidder that qualifies as a small business or a consortium of small businesses as defined in this section may use the bidding credit specified in § 1.2110(f)(2)(ii) of this chapter. A winning bidder that qualifies as an entrepreneur or a consortium of entrepreneurs as defined in this section may use the bidding credit specified in § 1.2110(f)(2)(iii) of this chapter.

8. Add subpart J to part 27 to read as follows:

Subpart J—1670-1675 MHz Service

Sec.
27.901 Scope.
27.902 Permissible communications
27.903 Coordination requirements.
27.904 Geographic partitioning and spectrum disaggregation.
27.905 1670-1675 MHz Service licenses subject to competitive bidding.
27.906 Designated entities.

§ 27.901 Scope.

This subpart sets out the regulations governing service in the 1670-1675 MHz band (1670-1675 MHz Service).

§ 27.902 Permissible communications.

Licensees in the 1670-1675 MHz Service are authorized to provide fixed or mobile service, except aeronautical mobile service, subject to the technical requirements of this subpart.

§ 27.903 Coordination requirements.

(a) Licensees in the 1670-1675 MHz Service will be issued geographic area licenses.

(b) Licensees in the 1670-1675 MHz Service must file a separate station application with the Commission and obtain an individual station license, prior to construction or operation, of any station:

(1) That requires submission of an Environmental Assessment under part 1, § 1.1307 of this chapter;

(2) That requires international coordination;

(3) That operates in the quiet zones listed under part 1, § 1.924 of this chapter.

(c) The notification required in paragraph (b) of this section must be filed on the Universal Licensing System.

(d) Prior to construction of a station, a licensee must register with the Commission any station antenna structure for which notification to the Federal Aviation Administration is required by part 17 of this chapter.

(e) It is the licensee's responsibility to determine whether an individual station requires referral to the Commission.

§ 27.904 Geographic partitioning and spectrum disaggregation.

An entity that acquires a portion of a 1670-1675 MHz licensee's geographic area or spectrum subject to a geographic partitioning or spectrum disaggregation agreement under § 27.15 must function as a 1670-1675 MHz licensee and is subject to the obligations and restrictions on the 1670-1675 MHz license as set forth in this subpart.

§ 27.905 1670-1675 MHz Service licenses subject to competitive bidding.

Mutually exclusive initial applications for 1670-1675 MHz Service licenses are subject to competitive bidding. The general competitive bidding procedures set forth in part 1, subpart Q, of this chapter will apply unless otherwise provided in this part.

§ 27.906 Designated entities.

(a) Eligibility for small business provisions.

(1) A small business is an entity that, together with its controlling interests and affiliates, has average annual gross revenues not exceeding $15 million for the preceding three years.

(2) An entrepreneur is an entity that, together with its controlling interests and affiliates, has average annual gross revenues not exceeding $40 million for the preceding three years.

(3) A consortium of small businesses is a conglomerate organization formed as a joint venture between or among mutually independent business firms, each of which individually satisfies the definition in paragraph (a)(1) of this section. A consortium of entrepreneurs is a conglomerate organization formed as a joint venture between or among mutually independent business firms, each of which individually satisfies the definition in paragraph (a)(2) of this section.

(4) For purposes of determining whether an entity meets any of the definitions set forth in paragraphs (a)(1), (a)(2), or (a)(3) of this section, the gross revenues of the entity, its controlling interests and affiliates shall be considered in the manner set forth in § 1.2110(b) and (c) of this chapter.

(b) A winning bidder that qualifies as a small business or a consortium of small businesses as defined in this section may use the bidding credit specified in § 1.2110(f)(2)(ii) of this chapter. A winning bidder that qualifies as an entrepreneur or a consortium of entrepreneurs as defined in this section may use the bidding credit specified in § 1.2110(f)(2)(iii) of this chapter.

9. Add a Subpart K to part 27 to read as follows

Subpart K—2385-2390 MHz Service

Sec.
27.1001 Scope.
27.1002 Permissible communications
27.1003 Coordination requirements
27.1004 Geographic partitioning and spectrum disaggregation
27.1005-23852390 MHz Service licenses subject to competitive bidding.
27.1006 Designated entities.

§ 27.1001 Scope.

This subpart sets out the regulations governing service in the 2385-2390 MHz band (2385-2390 MHz Service).

§ 27.1002 Permissible communications.

Licensees in the 2385-2390 MHz Service are authorized to provide fixed or mobile service subject to the technical requirements of this subpart.

§ 27.1003 Coordination requirements.

(a) Licensees in the 2385-2390 MHz Service will be issued geographic area licenses.

(b) Licensees in the 2385-2390 MHz Service must file a separate station application with the Commission and obtain an individual station license, prior to construction or operation, of any station:

(1) That requires submission of an Environmental Assessment under part 1, § 1.1307 of this chapter;

(2) That requires international coordination;

(3) That operates in the quiet zones listed in part 1, § 1.924 of this chapter;

(4) That requires approval of the Frequency Advisory Subcommittee (FAS) of the Interdepartment Radio Advisory Committee (IRAC). Licensees in the 2385-2390 MHz Service must receive FAS approval prior to operation of fixed sites or mobile units within the NTIA recommended protection radii of the Government aeronautical telemetry sites listed in footnote US363 of § 2.106 of this chapter.

(5) That would require approval of the Aeronautical Flight Test Radio Coordinating Council (AFTRCC). Licensees in the 2385-2390 MHz Service must receive AFTRCC approval prior to operation of fixed sites or mobile units within the AFTRCC recommended protection radii of the non-Government flight test operations listed in footnote US363 of § 2.106 of this chapter.

(c) Prior to construction of a station, the 2385-2390 MHz licensee must register with the Commission any station antenna structure for which notification to the Federal Aviation Administration is required by part 17 of this chapter.

(d) It is the licensee's responsibility to determine whether a referral to the Commission is needed for any individual station constructed.

(e) The notification required in paragraph (b) of this section must be filed on the Universal Licensing System.

§ 27.1004 Geographic partitioning and spectrum disaggregation.

An entity that acquires a portion of a 2390-2385 MHz licensee's geographic area or spectrum subject to a geographic partitioning or spectrum disaggregation agreement under § 27.15 must function as a 2385-2390 MHz licensee and is subject to the obligations and restrictions on the 2385-2390 MHz license as set forth in this subpart.

§ 27.1005 2385-2390 MHz Service licenses subject to competitive bidding.

Mutually exclusive initial applications for 2385-2390 MHz Service licenses are subject to competitive bidding. The general competitive bidding procedures set forth in part 1, subpart Q, of this chapter will apply unless otherwise provided in this part.

§ 27.1006 Designated entities.

(a) Eligibility for small business provisions.

(1) A small business is an entity that, together with its controlling interests and affiliates, has average annual gross revenues not exceeding $15 million for the preceding three years.

(2) An entrepreneur is an entity that, together with its controlling interests and affiliates, has average annual gross revenues not exceeding $40 million for the preceding three years.

(3) A consortium of small businesses is a conglomerate organization formed as a joint venture between or among mutually independent business firms, each of which individually satisfies the definition in paragraph (a)(1) of this section. A consortium of entrepreneurs is a conglomerate organization formed as a joint venture between or among mutually independent business firms, each of which individually satisfies the definition in paragraph (a)(2) of this section.

(4) For purposes of determining whether an entity meets any of the definitions set forth in paragraphs (a)(1), (a)(2), or (a)(3) of this section, the gross revenues of the entity, its controlling interests and affiliates shall be considered in the manner set forth in § 1.2110(b) and (c) of this chapter.

(b) A winning bidder that qualifies as a small business or a consortium of small businesses as defined in this section may use the bidding credit specified in § 1.2110(f)(2)(ii) of this chapter. A winning bidder that qualifies as an entrepreneur or a consortium of entrepreneurs as defined in this section may use the bidding credit specified in § 1.2110(f)(2)(iii) of this chapter.

10. Add Subpart L to part 27 to read as follows

Subpart L—Band Managers

Sec.
27.1101 Scope.
27.1102 Permissible communications.
27.1103 Band Manager authority.
27.1104 Band Manager agreements.
27.1105 Access to the Band Manager's spectrum.
27.1106 Band Manager licenses subject to competitive bidding.
27.1107 Designated entities.

§ 27.1101 Scope.

This subpart sets out the regulations governing Band Managers in the paired 1392-1395 MHz and 1432-1435 MHz bands and unpaired 1390-1392 MHz, 1670-1675 MHz and 2385-2390 MHz bands.

§ 27.1102 Permissible communications.

Band Managers are authorized to allow a spectrum user to provide fixed or mobile service subject to the technical requirements of this subpart.

§ 27.1103 Band Manager authority.

(a) A Band Manager may allow a spectrum user, pursuant to a written agreement, to construct and operate stations at any available site within the licensed area and on any channel for which the Band Manager is licensed, provided such stations comply with Commission Rules and coordination requirements.

(b) A Band Manager may allow a spectrum user, pursuant to a written agreement, to delete, move or change the operating parameters of any of the user's stations that are covered under the Band Manager's license without prior Commission approval, provided such stations comply with Commission Rules and coordination requirements.

§ 27.1104 Band Manager agreements.

Band Managers are required to enter into written agreements regarding the use of their licensed spectrum by others, subject to the following conditions:

(a) The duration of spectrum user agreements may not extend beyond the term of the Band Manager's FCC license.

(b) The spectrum user agreement must specify in detail the operating parameters of the spectrum user's system, including power, maximum antenna heights, frequencies of operation, base station location(s), area(s) of operation.

(c) The spectrum user agreement must require the spectrum user to use Commission-approved equipment where appropriate and to complete post-construction proofs of system performance prior to system activation.

(d) The spectrum user must agree to operate its system in compliance with all technical specifications for the system contained in the agreement and agree to cooperate fully with any investigation or inquiry conducted by either the Commission or the Band Manager.

(e) The spectrum user must agree to comply with all applicable Commission rules, and the spectrum user must accept Commission oversight and enforcement.

(f) The spectrum user agreement must stipulate that if the Band Manager determines that there is an ongoing violation of the Commission's rules or that the spectrum user's system is causing harmful interference, the Band Manager shall have the right to suspend or terminate operation of the spectrum user's system. The spectrum user agreement must stipulate that if the spectrum user refuses to comply with a suspension or termination order, the Band Manager will be free to use all legal means necessary to enforce the order.

(g) The spectrum user agreement may not impose unduly restrictive requirements on use of the licensed frequencies, including any requirement that is not reasonably related to the efficient management of the spectrum licensed to the Band Manager.

(h) Band Managers shall maintain their written agreements with spectrum users at their principal place of business, and retain such records for at least two years after the date such agreements expire. Such records shall be kept current and be made available upon request for inspection by the Commission or its representatives.

§ 27.1105 Access to the Band Manager's spectrum.

(a) A Band Manager may not engage in unjust or unreasonable discrimination among spectrum users and may not unreasonably deny prospective spectrum users access to the Band Manager's licensed spectrum.

(b) A Band Manager may not impose unduly restrictive requirements on use of its licensed frequencies, including any requirement that is not reasonably related to the efficient management of the spectrum licensed to the Band Manager.

§ 27.1106 Band Manager licenses subject to competitive bidding.

Mutually exclusive initial applications for Band Manager licenses in the paired 1392-1395 MHz and 1432-1435 MHz bands and unpaired 1390-1392 MHz, 1670-1675 MHz and 2385-2390 MHz bands are subject to competitive bidding. The general competitive bidding procedures set forth in part 1, subpart Q, of this chapter will apply unless otherwise provided in this part.

§ 27.1107 Designated entities.

(a) Eligibility for small business provisions for Band Manager licenses in the paired 1392-1395 MHz and 1432-1435 MHz bands and unpaired 1390-1392 MHz, 1670-1675 MHz and 2385-2390 MHz bands.

(1) A small business is an entity that, together with its controlling interests and affiliates, has average annual gross revenues not exceeding $15 million for the preceding three years.

(2) An entrepreneur is an entity that, together with its controlling interests and affiliates, has average annual gross revenues not exceeding $40 million for the preceding three years.

(3) A consortium of small businesses is a conglomerate organization formed as a joint venture between or among mutually independent business firms, each of which individually satisfies the definition in paragraph (a)(1) of this section. A consortium of entrepreneurs is a conglomerate organization formed as a joint venture between or among mutually independent business firms, each of which individually satisfies the definition in paragraph (a)(2) of this section.

(4) For purposes of determining whether an entity meets any of the definitions set forth in paragraphs (a)(1), (a)(2), or (a)(3) of this section, the gross revenues of the entity, its controlling interests and affiliates shall be considered in the manner set forth in § 1.2110(b) and (c) of this chapter.

(b) A winning bidder that qualifies as a very small business or a consortium of very small businesses as defined in this section may use the bidding credit specified in § 1.2110(f)(2)(i) of this chapter. A winning bidder that qualifies as a small business or a consortium of small businesses as defined in this section may use the bidding credit specified in § 1.2110(f)(2)(ii) of this chapter. A winning bidder that qualifies as an entrepreneur or a consortium of entrepreneurs as defined in this section may use the bidding credit specified in § 1.2110(f)(2)(iii) of this chapter.

PART 90—PRIVATE LAND MOBILE RADIO SERVICE

11. The authority citation for part 90 continues to read as follows:

Authority: Sections 4(i), 11, 303(g), 303(r), and 302(c)(7) of the Communications Act of 1934, as amended, 47 U.S.C. 154(i), 161, 303(g), 303(r), 332(c)(7).

12. Section 90.175 is amended by revising paragraph (i)(13) to read as follows:

§ 90.175 Frequency coordination requirements.

* * * * *

(i) * * *

(13) Applications for frequencies in the 1429.5-1432 MHz band.

* * * * *

13. Section 90.259 is amended by designating the undesignated paragraph as paragraph (a) and by adding paragraph (b) to read as follows:

§ 90.259 Assignment and use of frequencies in the bands 216-220 MHz and 1427-1432 MHz.

* * * * *

(b) 1427-1432 MHz band. (1) Frequencies in the 1427-1432 MHz band may be assigned to applicants that establish eligibility in the Public Safety Pool or the Industrial/Business Pool.

(2) All operations in the 1427-1429.5 MHz band are secondary in status except in the locations specified in paragraph (b)(4) of this section where operations are primary in status.

(3) All operations in the 1429.5-1432 MHz are primary in status except in the locations specified in paragraph (b)(4) of this section where operations are secondary in status.

(4) Locations. (i) Pittsburgh, Pennsylvania—Westmoreland, Washington, Beaver, Allegheny and Butler counties;

(ii) Washington, DC metropolitan area—Montgomery, Prince William, Fairfax, Prince George's and Charles counties, Alexandria City, District of Columbia;

(iii) Richmond/Norfolk, Virginia—Goochland, Powhatan, Hanover, Henrico counties, Richmond City, Hampton City, Virginia Beach City, Chesapeake City, Portsmouth City and Suffolk City;

(iv) Austin/Georgetown, Texas—Williamson and Travis counties;

(v) Battle Creek, Michigan—Calhoun county

(vi) Detroit, Michigan—Oakland county

(vii) Spokane, Washington—Spokane county.

PART 95—PERSONAL RADIO SERVICES

14. The authority citation for part 95 continues to read as follows:

Authority: Secs. 4, 303, 48 Stat. 1066, 1082, as amended; 47 U.S.C. 154, 303.

15. Section 95.630 is revised to read as follows:

§ 95.630 WMTS transmitter frequencies.

(a) WMTS transmitters may operate in the frequency bands specified below:

(1) 608-614 MHz

(2) 1395-1400 MHz

(3) 1427-1429.5 MHz

(4) 1429.5-1432 MHz

(b) All operations in the 1427-1429.5 MHz band are primary in status except in the locations specified in paragraph (c) of this section where operations are secondary in status.

(c) Locations. (1) Pittsburgh, Pennsylvania—Westmoreland, Washington, Beaver, Allegheny and Butler counties;

(2) Washington, DC metropolitan area—Montgomery, Prince William, Fairfax, Prince George's and Charles counties, Alexandria City, District of Columbia;

(3) Richmond/Norfolk, Virginia—Goochland, Powhatan, Hanover, Henrico counties, Richmond City, Hampton City, Virginia Beach City, Chesapeake City, Portsmouth City and Suffolk City;

(4) Austin/Georgetown, Texas—Williamson and Travis counties;

(5) Battle Creek, Michigan—Calhoun county

(6) Detroit, Michigan—Oakland county

(7) Spokane, Washington—Spokane county.

16. Section 95.639(g) is revised to read as follows:

§ 95.639 Maximum transmitter power.

* * * * *

(g) The maximum field strength authorized for WMTS stations in the 608-614 MHz band is 200 mV/m, measured at 3 meters. For stations in the 1395-1400 MHz, 1427-1429.5 MHz, and 1429.5-1432 MHz bands, the maximum field strength is 740 mV/m, measured at 3 meters.

* * * * *

17. Section 95.1101 is revised to read as follows:

§ 95.1101 Scope.

This part sets out the regulations governing the operation of Wireless Medical Telemetry Devices in the 608-614 MHz, 1395-1400 MHz, 1427-1429.5 MHz and 1429.5-1432 MHz frequency bands.

18. Section 95.1103(c) is revised to read as follows:

§ 95.1103 Definitions.

* * * * *

(c) Wireless medical telemetry. The measurement and recording of physiological parameters and other patient-related information via radiated bi- or unidirectional electromagnetic signals in the 608-614 MHz, 1395-1400 MHz, 1427-1429.5 MHz, and 1429.5-1432 MHz frequency bands.

19. Sections 95.1115(a)(2) and (d)(1) are revised to read as follows:

§ 95.1115 General technical requirements.

(a) * * *

(2) In the 1395-1400 MHz, 1427-1429.5 MHz, and 1429.5-1432 MHz bands, the maximum allowable field strength is 740 mV/m, as measured at a distance of 3 meters, using measuring equipment with an averaging detector and a 1 MHz measurement bandwidth.

* * * * *

(d) Channel use. (1) In the 1395-1400 MHz, 1427-1429.5 MHz, and 1429.5-1432 MHz bands, no specific channels are specified. Wireless medical telemetry devices may operate on any channel within the bands authorized for wireless medical telemetry use in this part.

* * * * *

20. Section 95.1121 is revised to read as follows:

§ 95.1121 Specific requirements for wireless medical telemetry devices operating in the 1395-1400 MHz, 1427-1429.5 MHz, and 1429.5-1432 MHz bands.

Due to the critical nature of communications transmitted under this part, the frequency coordinator in consultation with the National Telecommunications and Information Administration shall determine whether there are any Federal Government systems whose operations could affect, or could be affected by, proposed wireless medical telemetry operations in the 1395-1400 MHz 1427-1429.5 MHz, and 1429.5-1432 MHz bands. The locations of government systems in these bands are specified in footnotes US351 and US352 of § 2.106 of this chapter.

[FR Doc. 02-3799 Filed 2-14-02; 8:45 am]

BILLING CODE 6712-01-P